NUCLEAR REGULATORY COMMISSION

[NRC-2009-0217; Docket No. 030-35868]

Notice of Availability of Environmental Assessment and Finding of No Significant Impact for License Amendment to Byproduct Nuclear Materials License No. 06-30693-01, for Termination of the License and Unrestricted Release of the Protometrix—an Invitrogen Company Facility in Branford, CT

AGENCY: Nuclear Regulatory Commission.

ACTION: Issuance of Environmental Assessment and Finding of No Significant Impact for License Amendment and Termination.

FOR FURTHER INFORMATION CONTACT: Thomas K. Thompson, Sr. Health Physicist, Commercial and R&D Branch, Division of Nuclear Materials Safety, Region I, 475 Allendale Road, King of Prussia, Pennsylvania 19406; telephone (610) 337-5303; fax number (610) 337-5269; or by e-mail: Thomas.Thompson@nrc.gov.

SUPPLEMENTARY INFORMATION:

I. Introduction

The U.S. Nuclear Regulatory Commission (NRC) is considering the issuance of an amendment terminating Byproduct Materials License No. 06-30693-01. This license is held by Protometrix—an Invitrogen Company (the Licensee), for its facility located at 688 East Main Street, Branford, Connecticut (the Facility). Issuance of the amendment would authorize release of the Facility for unrestricted use and terminate the NRC license. The Licensee requested this action in a letter dated March 12, 2009. The NRC has prepared an Environmental Assessment (EA) in support of this proposed action in accordance with the requirements of Title 10, Code of Federal Regulations (CFR), part 51 (10 CFR part 51). Based on the EA, the NRC has concluded that a Finding of No Significant Impact (FONSI) is appropriate with respect to the proposed action. The amendment will be issued to the Licensee, and the license will be terminated, following the publication of this FONSI and EA in the Federal Register.

II. Environmental Assessment

Identification of Proposed Action

The proposed action would approve the Licensee's March 12, 2009, license amendment and termination request, resulting in release of the Facility for unrestricted use and the termination of its NRC materials license. License No. 06-30693-01 was issued on November 19, 2001, pursuant to 10 CFR part 30, and has been amended periodically since that time. This license authorizes the Licensee to use hydrogen-3, carbon-14, phosphorus-32, phosphorus-33, sulfur-35, and iodine 125 for conducting research and development.

The Facility is a one story building of approximately 13,787 square feet, consisting of warehouse spaces, office spaces, and laboratories. Within the Facility, use of licensed materials was largely confined to two small laboratories with a total area of approximately 330 square feet. The Facility is located in an industrial area. Within the Facility, the radionuclides of concern were hydrogen-3 and carbon-14 because the half-life of these isotopes is greater than 120 days.

In January 2009, the Licensee last handled byproduct materials, ceased licensed activities, and initiated a survey of the affected areas of the Facility. Based on the Licensee's historical knowledge of the site and the conditions of the Facility, the Licensee determined that only routine decontamination activities, in accordance with the NRC-approved operating radiation safety procedures, would be required. The Licensee was not required to submit a decommissioning plan to the NRC because worker cleanup activities and procedures are consistent with those approved for routine operations. The Licensee conducted surveys of the Facility and provided information to the NRC to demonstrate that it meets the criteria in Subpart E of 10 CFR Part 20 for unrestricted release and for license termination.

Need for the Proposed Action

The Licensee has ceased conducting licensed activities at the Facility, and seeks the unrestricted use of its Facility and the termination of its NRC materials license. Termination of its license would end the Licensee's obligation to pay annual license fees to the NRC.

Environmental Impacts of the Proposed Action

The historical review of licensed activities conducted at the Facility shows that such activities involved use of the following radionuclides with a half-life greater than 120 days: hydrogen-3 and carbon-14.

The Licensee conducted a final status survey in January 2009. This survey covered the areas of use in the Facility. The final status survey report was received March 12, 2009. The Licensee demonstrated compliance with the radiological criteria for unrestricted release as specified in 10 CFR 20.1402 by using the screening approach described in NUREG-1757, “Consolidated Decommissioning Guidance,” Volume 2. The radionuclide-specific derived concentration guideline levels (DCGLs), developed by the NRC, which comply with the dose criterion in 10 CFR 20.1402. These DCGLs define the maximum amount of residual radioactivity on building surfaces, equipment, and materials, and in soils, that will satisfy the NRC requirements in Subpart E of 10 CFR Part 20 for unrestricted release. The Licensee's final status survey results were below these DCGLs and are in compliance with the As Low As Reasonably Achievable (ALARA) requirement of 10 CFR 20.1402. The NRC thus finds that the Licensee's final status survey results are acceptable.

Based on its review, the staff has determined that the affected environment and any environmental impacts associated with the proposed action are bounded by the impacts evaluated by the “Generic Environmental Impact Statement in Support of Rulemaking on Radiological Criteria for License Termination of NRC-Licensed Nuclear Facilities” Volumes 1-3 (NUREG-1496) (ADAMS Accession Nos. ML042310492, ML042320379, and ML042330385). The staff finds there were no significant environmental impacts from the use of radioactive material at the Facility. The NRC staff reviewed the docket file records and the final status survey report to identify any non-radiological hazards that may have impacted the environment surrounding the Facility. No such hazards or impacts to the environment were identified. The NRC has identified no other radiological or non-radiological activities in the area that could result in cumulative environmental impacts.

The NRC staff finds that the proposed release of the Facility for unrestricted use and the termination of the NRC materials license is in compliance with 10 CFR 20.1402. Based on its review, the staff considered the impact of the residual radioactivity at the Facility and concluded that the proposed action will not have a significant effect on the quality of the human environment.

Environmental Impacts of the Alternatives to the Proposed Action

Due to the largely administrative nature of the proposed action, its environmental impacts are small. Therefore, the only alternative the staff considered is the no-action alternative, under which the staff would leave things as they are by simply denying the amendment and termination request. This no-action alternative is not feasible because it conflicts with 10 CFR 30.36(d), requiring that decommissioning of byproduct material facilities be completed and approved by the NRC after licensed activities cease. The NRC's analysis of the Licensee's final status survey data confirms that the Facility meets the requirements of 10 CFR 20.1402 for unrestricted release and for license termination. Additionally, denying the amendment and termination request would result in no change in current environmental impacts. The environmental impacts of the proposed action and the no-action alternative are therefore similar, and the no-action alternative is, accordingly, not further considered.

Conclusion

The NRC staff has concluded that the proposed action is consistent with the NRC's unrestricted release criteria specified in 10 CFR 20.1402. Because the proposed action will not significantly impact the quality of the human environment, the NRC staff concludes that the proposed action is the preferred alternative.

Agencies and Persons Consulted

NRC provided a draft of this Environmental Assessment to the State of Connecticut, Department of Environmental Protection, Division of Radiation, for review on April 9, 2009. The State replied by electronic mail on April 17, 2009, indicating they agreed with the conclusions of the Environmental Assessment.

The NRC staff has determined that the proposed action is of a procedural nature, and will not affect listed species or critical habitat. Therefore, no further consultation is required under Section 7 of the Endangered Species Act. The NRC staff has also determined that the proposed action is not the type of activity that has the potential to cause effects on historic properties. Therefore, no further consultation is required under Section 106 of the National Historic Preservation Act.

III. Finding of No Significant Impact

The NRC staff has prepared this EA in support of the proposed action. On the basis of this EA, the NRC finds that there are no significant environmental impacts from the proposed action, and that preparation of an environmental impact statement is not warranted. Accordingly, the NRC has determined that a Finding of No Significant Impact is appropriate.

IV. Further Information

Documents related to this action, including the application for license amendment and termination and supporting documentation, are available electronically at the NRC's Electronic Reading Room at http://www.nrc.gov/reading-rm/adams.html. From this site, you can access the NRC's Agencywide Documents Access and Management System (ADAMS), which provides text and image files of NRC's public documents. The documents related to this action are listed below, along with their ADAMS accession numbers.

1. NRC License No. 06-30693-01 Amendment 05 issued January 15, 2009 (ADAMS Accession No. ML013270325);

2. Termination request dated March 12, 2009 (ADAMS Accession No. ML090780841);

3. Additional information on termination request dated March 20, 2009 (ADAMS Accession No. ML090970767);

4. NUREG-1757, “Consolidated NMSS Decommissioning Guidance,” Volume 2;

5. Title 10, Code of Federal Regulations, Part 20, Subpart E, “Radiological Criteria for License Termination”;

6. Title 10, Code of Federal Regulations, Part 51, “Environmental Protection Regulations for Domestic Licensing and Related Regulatory Functions”;

7. NUREG-1496, “Generic Environmental Impact Statement in Support of Rulemaking on Radiological Criteria for License Termination of NRC-Licensed Nuclear Facilities,” Volumes 1-3.

If you do not have access to ADAMS, or if there are problems in accessing the documents located in ADAMS, contact the NRC Public Document Room (PDR) Reference staff at 1-800-397-4209, 301-415-4737, or by e-mail to pdr@nrc.gov. These documents may also be viewed electronically on the public computers located at the NRC's PDR, O 1F21, One White Flint North, 11555 Rockville Pike, Rockville, MD 20852. The PDR reproduction contractor will copy documents for a fee.

Dated at 475 Allendale Road, King of Prussia, PA this 19th day of May 2009.
For the Nuclear Regulatory Commission.
James P. Dwyer,
Chief, Commercial & R&D, Division of Nuclear Materials Safety, Region I.

[FR Doc. E9-12402 Filed 5-27-09; 8:45 am]

BILLING CODE 7590-01-P